DEPARTMENT OF AGRICULTURE

Forest Service

Ochoco National Forest, Lookout Mountain Ranger District; Oregon; Marks Creek Allotment Management Plans EIS

AGENCY: Forest Service, USDA.

ACTION: Notice of intent to prepare an environmental impact statement.

SUMMARY: The Ochoco National Forest is preparing an environmental impact statement (EIS) to analyze the effects of changing grazing management in three grazing allotments on the Lookout Mountain Ranger District. These three allotments are Marks Creek, Ortman and Wildcat. The proposed action will reauthorize term grazing permits, make rangeland improvements, reduce livestock stocking rates, manage livestock use and distribution to facilitate the improvement of riparian conditions, including streambank stability, riparian vegetation, and water temperature, and will conduct riparian restoration activities on some streams in the project area. These actions are needed to achieve and maintain consistency with the Ochoco National Forest Land and Resource Management Plan, as amended.

DATES: Comments concerning the scope of the analysis must be received by February 28, 2011. The draft environmental impact statement is expected to be completed and available for public comment in June 2011. The final environmental impact statement is expected to be completed in September 2011.

ADDRESSES: Send written comments to Slater Turner, District Ranger, Lookout Mountain District, Ochoco National Forest, 3160 NE. Third Street, Prineville, Oregon 97754. Alternately, electronic comments may be sent to comments-pacificnorthwest-ochoco@fs.fed.us. Electronic comments must be submitted as part of the actual e-mail message, or as an attachment in plain text (.txt), Microsoft Word (.doc), rich text format (.rtf), or portable document format (.pdf).

FOR FURTHER INFORMATION CONTACT: Tory Kurtz, Project Leader, at 3160 NE. Third Street, Prineville, Oregon 97754, or at (541) 416-6500, or by e-mail at tlkurtz@fs.fed.us.

SUPPLEMENTARY INFORMATION:

Purpose and Need for Action

The purpose of this proposal is to reauthorize livestock grazing consistent with Forest Plan standards and guidelines. Based on surveys conditions on some streams in the project area are moving away from desired condition; there is a need to make range improvements and change livestock management to move towards desired conditions for stream shade, bank stability and width-to-depth ratio. Livestock grazing is one of the factors that contribute to altered riparian function. Active riparian restoration activities will facilitate the achievement of the desired condition.

Proposed Action

The proposed action includes a variety of management strategies and activities, including reduction of livestock stocking rates, active management of livestock, relocation or reconstruction of existing water developments, planting of riparian hardwoods, placing logs and rocks in and along stream channels, and protection of riparian vegetation and streambanks.

Marks Creek Allotment

The allotment would consist of 10,546 acres divided between six pastures-Garden, Grant Meadows, Little Hay Creek, Nature, Pothole, and Spears Meadow. The current stocking rate (1482 AUMs) would be reduced to 939 AUMs; 232 cow/calf pairs from July 1 to September 30 would be authorized. Stocking reduction would take place over 4 years with total AUMs being reduced by about 135 per year. Existing structural improvements would be reauthorized including 13 troughs and about 28 miles of fence. The grazing system would be a six pasture rotation. The permittee or the permittee's representative would be present on the allotment and would move livestock, when needed, to achieve desired distribution to prevent excessive forage utilization or streambank alteration. Livestock would be checked a minimum of 2 days per week up until July 1 and then a minimum of every other day after July 1.

• Garden pasture:

• Reconstruct 1 water development.

• Grant Meadows pasture:

• Riparian restoration activities would take place on 1.5 miles of Deadman Creek, 2 miles of Rush Creek, and 1 mile of Long Hollow Creek; activities would include in-stream placement of wood and/or rock structures, planting hardwoods, and creating physical barriers (such as wood, rock or fences) to protect hardwoods and improve bank stability. Wood and physical barrier material may come from on-site.

• Planting hardwoods, and creating physical barriers (such as wood, rock or fences) to protect hardwoods and improve bank stability would take place on 2.5 miles of Grant Meadows.

• Small-diameter conifers (9” and smaller) would be thinned and cut materials would be used to protect aspen; two exclosures would be constructed to protect aspen stands.

• One new corral and one new water development would be constructed.

• Nine water developments would be reconstructed.

• Little Hay Creek pasture:

• Hardwoods would be planted and physical barriers (such as wood, rock or fences) would be constructed to protect hardwoods and improve bank stability on two miles of Little Hay Creek.

• Construct a hardened crossing on Little Hay Creek.

• Construct 1 new water development.

• Reconstruct 4 water developments.

• Nature pasture:

• Conifer thinning and utilization of thinned materials to protect aspen in an approximately 1-acre aspen stand.

• Conifer thinning and utilization of thinned materials to protect aspen in an approximately 3-acre aspen stand.

• Pothole pasture:

• Reconstruct 1 water development.

• Spears Meadow pasture:

• Riparian restoration activities will take place on 2 miles of Marks Creek; activities will include in-stream placement of wood and/or rock structures, planting hardwoods, and creating physical barriers (such as wood, rock or fences) to protect hardwoods and improve bank stability. Wood and physical barrier material may come from on-site.

• Planting hardwoods, and creating physical barriers (such as wood, rock or fences) to protect hardwoods and improve bank stability will take place on 0.5 miles of Little Hay Creek.

Ortman Allotment

The allotment would continue to consist of 2,360 acres (873 acres are in the National Forest System). The current permitted amount of 98 AUMs with 74 cow/calf pair from June 20 to July 19 would be authorized. Existing structural improvements would be reauthorized including 1 trough and about 8 miles of fence. The permittee or the permittee's representative would be present on the allotment and would move livestock, when needed, to achieve desired distribution to prevent excessive forage utilization or streambank alteration. Livestock would be checked a minimum of 2 days per week up until July 1 and then a minimum of every other day after July 1. One existing water development would be reconstructed and one new water development would be constructed. Riparian restoration would take place on 1 mile of Salmon Creek with activities including in-stream placement of wood and/or rock structures and creating physical barriers to protect hardwoods and improve bank stability. Wood and physical barrier material may come from on-site.

Wildcat Allotment

The allotment would consist of 18,901 acres divided between three pastures—Salmon, Viewpoint and Wildcat. The current permitted amount of 805 AUMs with 150 cow/calf pairs from June 1 to September 30 would be authorized. Existing structural improvements would be reauthorized including 6 troughs, 5 ponds, and approx. 15 miles of fence. The grazing system would be a three pasture rotation using the Salmon, Wildcat, and Viewpoint in that order. The permittee or the permittee's representative would be present on the allotment and would move livestock, when needed, to achieve desired distribution to prevent excessive forage utilization or streambank alteration. Livestock would be checked a minimum of 2 days per week up until July 1 and then a minimum of every other day after July 1.

• Salmon pasture:

• Actively restore riparian areas on 1 mile of Salmon Creek with activities including in-stream placement of wood and/or rock structures and creating physical barriers to protect hardwoods and improve bank stability. Wood and physical barrier material may come from on-site.

• Small-diameter conifers (9” and smaller) would be thinned and cut materials would be used to protect aspen.

• Viewpoint pasture:

• Small-diameter conifers (9” and smaller) would be thinned and cut materials would be used to protect aspen; an exclosure would be constructed to protect aspen stands.

• Riparian restoration activities, including headcut repair, and in-stream placement of wood and/or rock structures, would take place on Reach 1 of Cornez Creek, “No Name” Creek off of Forest Road 27, and McGinnis Creek. Wood material may come from on-site.

• One existing water development would be reconstructed.

• Wildcat pasture:

• Hardwoods would be planted and physical barriers (such as wood, rock or fences) would be created to protect hardwoods and improve bank stability on 2 miles of Wildcat Creek.

• Two existing water developments would be reconstructed.

• One new cattleguard would be installed on road 3350-519.

Possible Alternatives

In addition to the Proposed Action and any alternative that is developed following this scoping effort, the project interdisciplinary team will analyze the effects of:

• No Action alternative: No grazing permits would be reauthorized; cattle would be removed from all allotments within two years.

• Current management alternative: Permits would be reauthorized at current levels; there would be no new water developments, no riparian restoration, and there would be no requirement for permittees to move livestock out of sensitive areas, except as required by current permits.

Responsible Official

The responsible official will be Jeff Walter, Forest Supervisor, Ochoco National Forest, 3160 NE. Third Street, Prineville, Oregon 97754.

Nature of Decision To Be Made

Given the purpose and need, the deciding official will review the proposed action, the other alternatives, and the environmental consequences in order to make the following decisions:

• Whether and under what circumstances grazing will be reauthorized in the Marks Creek, Ortman, and Wildcat allotments.

• Whether and under what circumstances range improvements will be constructed.

• Whether and under what circumstances riparian restoration activities will be implemented.

Preliminary Issues

Preliminary issues identified include the potential effect of the proposed action on livestock grazing, heritage resources, fisheries, water quality, sensitive plants, and on the introduction and/or spread of invasive plants, as well as the cumulative effects of the proposed action where the effects of associated activities overlap with the effects of other management activities.

Scoping Process

Public comments about this proposal are requested in order to assist in identifying issues, determining how to best manage the resources, and focusing the analysis. Comments received to this notice, including names and addresses of those who comment, will be part of the public record for this proposed action. Comments submitted anonymously will be accepted and considered; however, anonymous comments will not provide the Agency with the ability to provide the respondent with subsequent environmental documents.

Dated: January 21, 2011.
Slater R. Turner,
District Ranger.

[FR Doc. 2011-1735 Filed 1-26-11; 8:45 am]

BILLING CODE 3410-11-P